DEPARTMENT OF STATE

[Public Notice: 5307]

60-Day Notice of Proposed Information Collection: Form DS-3097, Exchange Visitor Program Annual Report, and OMB Control Number 1405-0151

ACTION: Notice of request for public comments.

SUMMARY: The Department of State is seeking Office of Management and Budget (OMB) approval for the information collection described below. The purpose of this notice is to allow 60 days for public comment in the Federal Register preceding submission to OMB. We are conducting this process in accordance with the Paperwork Reduction Act of 1995.

Title of Information Collection: Exchange Visitor Program Annual Report.

OMB Control Number: 1405-0151.

Type of Request: Extension of a Currently Approved Collection.

Originating Office: Educational and Cultural Affairs, Office of Exchange Coordination and Designation, ECA/EC/PS.

Form Number: Form DS-3097.

Respondents: Designated J-1 program sponsors.

Estimated Number of Respondents: 1468.

Estimated Number of Responses: 1468 annually.

Average Hours per Response: 1 hour.

Total Estimated Burden: 1468 hours.

Frequency: Annually.

Obligation to Respond: Mandatory.

DATES: The Department will accept comments from the public up to 60 days from date of publication in the Federal Register.

ADDRESSES: You may submit comments, identified by any of the following methods:

• E-mail: jexchanges@state.gov. You must include the RIN in the subject line of your message.

• Mail (paper, disk, or CD-ROM submissions): U.S. Department of State, Office of Exchange Coordination and Designation, SA-44, 301 4th Street, SW., Room 734, Washington, DC 20547.

• Fax: 202-203-5087.

Persons with access to the Internet may also view this notice and provide comments by going to the regulations.gov Web site at: http://www.regulations.gov/index.cfm.

FOR FURTHER INFORMATION CONTACT: Stanley S. Colvin, Acting Director, Office of Exchange Coordination and Designation, U.S. Department of State, SA-44, 301 4th Street, SW., Room 734, Washington, DC 20547; or e-mail at jexchanges@state.gov.

SUPPLEMENTARY INFORMATION: We are soliciting public comments to permit the Department to:

• Evaluate whether the proposed information collection is necessary for the proper performance of our functions.

• Evaluate the accuracy of our estimate of the burden of the proposed collection, including the validity of the methodology and assumptions used.

• Enhance the quality, utility, and clarity of the information to be collected.

• Minimize the reporting burden on those who are to respond, including the use of automated collection techniques or other forms of technology.

Abstract of Proposed Collection

Annual reports from designated program sponsors assist the Department in oversight and administration of the J-1 visa program. The reports provide statistical data on the number of exchange participants an organization sponsored per category. Program sponsors include government agencies, academic institutions, not-for-profit and for-profit organizations.

Methodology

Annual reports are run through the Student and Exchange Visitor Information System (SEVIS) and then printed and sent to the Department. The Department allows sponsors to submit annual reports by mail or fax at this time. There are measures being taken to allow sponsors to submit the reports electronically in the future.

Dated: January 3, 2006.
Stanley S. Colvin,
Director, Office of Exchange Coordination and Designation, Bureau of Educational and Cultural Affairs, Department of State.

[FR Doc. E6-2050 Filed 2-13-06; 8:45 am]

BILLING CODE 4710-05-P